DEPARTMENT OF HOMELAND SECURITY

Coast Guard

[Docket No. USCG-2011-0204]

Navigation Safety Advisory Council

AGENCY: Coast Guard, DHS.

ACTION: Notice of Federal Advisory Committee Meeting.

SUMMARY: The Navigation Safety Advisory Council (NAVSAC) will meet on May 4-5, 2011, in Arlington, Virginia. The meeting will be open to the public.

DATES: NAVSAC will meet Wednesday, May 4, 2011, from 8 a.m. to 5 p.m., and Thursday, May 5, 2011, from 8 a.m. to 5 p.m. Please note that the meeting may close early if the committee has completed its business. Pre-registration and written comments are due April 29, 2011.

ADDRESSES: The meeting will be held at the Navy League Building, Coast Guard Recruiting Command, 5th floor conference room, 2300 Wilson Boulevard, Suite 500, Arlington, Virginia 20598. All visitors to the Navy League Building must pre-register to be admitted to the building. You may pre-register by contacting the person listed in FOR FURTHER INFORMATION CONTACT below.

For information on facilities or services for individuals with disabilities or to request special assistance at the meeting, contact Mr. Dennis Fahr as soon as possible.

To facilitate public participation, we are inviting public comment on the issues to be considered by the committee as listed in the “Agenda” section below. You may submit written comments no later than April 25, 2011, and must be identified by USCG-2011-0204 using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue, SE., Washington, DC 20590-0001.

• Hand Delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

A public comment period will be held during the meeting on May 4, 2011, from 3 to 4 p.m., and May 5, at the close of the meeting. Speakers are requested to limit their comments to 10 minutes. Please note that the public comment period may end before the time indicated, following the last call for comments. Contact the individual listed below to register as a speaker.

FOR FURTHER INFORMATION CONTACT: If you have questions about this meeting, please contact Mr. Mike Sollosi, the NAVSAC Alternate Designated Federal Officer (ADFO), at telephone 202-372-1545 or e-mail mike.m.sollosi@uscg.mil, or Mr. Dennis Fahr, at telephone 202-372-1531 or e-mail dennis.fahr@uscg.mil. If you have questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

The NAVSAC is an advisory committee authorized in 33 U.S.C. 2073 and chartered under the provisions of the FACA. NAVSAC provides advice and recommendations to the Secretary, through the Commandant of the U.S. Coast Guard, on matters relating to prevention of maritime collisions, rammings, and groundings; including the Inland and International Rules of the Road, navigation regulations and equipment, routing measures, marine information, diving safety, and aids to navigation systems.

Agenda

The NAVSAC will meet to review, discuss and formulate recommendations on the following topics:

Wednesday, May 4, 2011

(1) Coastal Marine Spatial Planning (CMSP)

Executive Order 13547 directed Federal Agencies to take a new approach to stewardship of the oceans, coasts, and Great Lakes. CMSP is one facet of that initiative. This topic will address the Coast Guard's plans for implementing CMSP.

(2) Navigation Rules Regulatory Project

This topic will address the Coast Guard's progress toward implementing NAVSAC approved changes to the Inland Navigation Rules.

(3) E-Navigation Strategy

Under the auspices of the Committee on the Marine Transportation System, the Coast Guard and other agencies are developing a National e-Navigation Strategy that will establish a framework for data exchange between and among ships and shore facilities. This topic will update the Council on that effort.

(4) Electronic Chart Display and Information System (ECDIS)

Mandatory carriage of ECDIS will be phased in beginning in 2012. This series of presentations will inform the Council of developments and difficulties encountered in deploying ECDIS, including accuracy of charted positions, the range of vessels to be impacted, and training requirements for ECDIS.

(5) Virtual Aids to Navigation

Aids to Navigation authorities are considering deploying virtual aids to navigation as an alternative to physical lights, daybeacons and buoys under certain circumstances. This topic will inform the Council on virtual aids and discuss their possible use in U.S. waters.

The following tasks will also be discussed and recommendations formulated:

(1) NAVSAC Task 11-01 Sky Sails

The use of Sky Sails to augment propulsion on vessels is a real possibility. This task will address whether there should be restrictions on their use.

(2) NAVSAC Task 11-02 Proximity of Offshore Energy Installations to Established Ships Routing Measures

The Council will be asked if there should be regulated “buffer zones” around offshore renewable energy installations and if so, what the size of the zones should be.

(3) NAVSAC Task 08-07 Autonomous Unmanned Vessels

The Council will continue its discussion of autonomous unmanned vessels and discuss their implications for the Inland Navigation Rules.

A public comment period will be held from 3 to 4 p.m. Speakers comments limited to 10 minutes each. Public comments or questions will be taken at the discretion of the DFO during the discussion and recommendation portion of the meeting.

Thursday, May 5, 2011

(1) Working Group Discussions continue from May 4.

(2) Working Group Reports.

(3) New Business.

a. IMO Safety Navigation Sub Committee.

The Coast Guard will update the Council on recent decisions and planned outputs of the IMO Safety Navigation Subcommittee.

b. Summary of NAVSAC Action Items.

c. Schedule Next Meeting Date—Spring 2012.

d. Committee discussion/acceptance of new tasks.

A public comment period will be held after the discussion/acceptance of new tasks. Speaker's comments limited to 10 minutes each. Public comments or questions will be taken at the discretion of the DFO during the discussion and recommendations, and new business portion of the meeting.

Dated: April 12, 2011.
Dana A. Goward,
Director, Marine Transportation Systems Management, U.S. Coast Guard.

[FR Doc. 2011-9356 Filed 4-15-11; 8:45 am]

BILLING CODE 9110-04-P